DEPARTMENT OF THE INTERIOR

National Park Service

Notice of Intent to Repatriate Cultural Items: Denver Museum of Nature & Science, Denver, CO

AGENCY: National Park Service, Interior.

ACTION: Notice.

Notice is here given in accordance with the Native American Graves Protection and Repatriation Act (NAGPRA), 25 U.S.C. 3005, of the intent to repatriate cultural items in the possession of the Denver Museum of Nature & Science, Denver, CO, that meet the definition of “unassociated funerary objects” under 25 U.S.C. 3001.

This notice is published as part of the National Park Service's administrative responsibilities under NAGPRA, 25 U.S.C. 3003 (d)(3). The determinations in this notice are the sole responsibility of the museum, institution, or Federal agency that has control of the Native American cultural items. The National Park Service is not responsible for the determinations in this notice.

On February 24, 1965, the collectors Mary W.A. and Francis V. Crane acquired 18 silver Seminole pendants from the antiquities dealer Howard B. Roloff. Records from the purchase transaction noted that the “4 dark ones are from a burial over 100 years old.” In 1968, the Cranes donated the Seminole pendants to the Denver Museum of Nature & Science (then Denver Museum of Natural History) (Accession Numbers AC.7940A-D). The museum exhibited the four pendants in its “Seminole Silver Case” between 1976 and 1980.

Historical and archeological evidence establish that Seminole and Miccosukee people have been residents in central and southern Florida for at least several hundred years. In consultations, representatives of the Miccosukee Tribe of Indians of Florida; Seminole Nation of Oklahoma; and Seminole Tribe of Florida, Dania, Big Cypress, Brighton, Hollywood & Tampa Reservations confirmed their affiliation with earlier historic American Indians in Florida and confirmed that the four pendants were very likely Seminole burial objects. Descendants of the Seminole are members of the Miccosukee Tribe of Indians of Florida; Seminole Nation of Oklahoma; and Seminole Tribe of Florida, Dania, Big Cypress, Brighton, Hollywood & Tampa Reservations.

Officials of the Denver Museum of Nature & Science have determined that, pursuant to 25 U.S.C. 3001 (3)(B), the four cultural items described above are reasonably believed to have been placed with or near individual human remains at the time of death or later as part of the death rite or ceremony and are believed to have been removed from a specific burial site of a Native American individual. Officials of the Denver Museum of Nature & Science also have determined that, pursuant to 25 U.S.C. 3001 (2), there is a relationship of shared group identity that can be reasonably traced between the cultural items and the Miccosukee Tribe of Indians of Florida; Seminole Nation of Oklahoma; and Seminole Tribe of Florida, Dania, Big Cypress, Brighton, Hollywood & Tampa Reservations.

Representatives of any other Indian tribe that believes itself to be culturally affiliated with the unassociated funerary objects should contact Dr. Chip Colwell-Chanthaphonh, NAGPRA Officer, Department of Anthropology, Denver Museum of Nature & Science, 2001 Colorado Boulevard, Denver, CO 80205, telephone (303) 370-6378, before September 29, 2008. Repatriation of the unassociated funerary items to the Miccosukee Tribe of Indians of Florida; Seminole Nation of Oklahoma; and Seminole Tribe of Florida, Dania, Big Cypress, Brighton, Hollywood & Tampa Reservations may proceed after that date if no additional claimants come forward.

The Denver Museum of Nature & Science is responsible for notifying the Miccosukee Tribe of Indians of Florida; Seminole Nation of Oklahoma; and Seminole Tribe of Florida, Dania, Big Cypress, Brighton, Hollywood & Tampa Reservations that this notice has been published.

Dated: August 4, 2008.
Sherry Hutt,
Manager, National NAGPRA Program.

[FR Doc. E8-20097 Filed 8-28-08; 8:45 am]

BILLING CODE 4312-50-S